DEPARTMENT OF ENERGY

Federal Energy Regulatory Commission

[Project No. 2310-237]

Pacific Gas and Electric Co.; Notice of Application for Temporary Variance and Applicant Prepared Environmental Assessment, Soliciting Comments, Motions To Intervene, and Protests

Take notice that the following hydroelectric application has been filed with the Commission and is available for public inspection:

a. Type of Proceeding: Request for Temporary Variance of Lake Fordyce minimum reservoir water surface elevation.

b. Project No.: 2310-237.

c. Date Filed: December 22, 2020 and supplemented January 13, 2021.

d. Licensee: Pacific Gas and Electric Company.

e. Name of Project: Drum-Spaulding Hydroelectric Project.

f. Location: Lake Fordyce is located on Fordyce Creek, a tributary of the South Fork of the Yuba River, Nevada County, California.

g. Filed Pursuant to: Federal Power Act, 16 U.S.C. 791a-825r.

h. Licensee Contact: Bill Martin, AECOM, 300 Lakeside Drive, Suite 400, Oakland, CA, 94601, (510) 874-3020, bill.h.Martin@aecom.com.

i. FERC Contact: Mark Pawlowski, (202) 502-6052, mark.pawlowski@ferc.gov

j. Deadline for filing comments, interventions, and protests Deadline for filing comments, motions to intervene, and protests: 15 days from the date of this notice The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852 The first page of any filing should include docket number P-2310-237. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee filed a request for a temporary license variance from the minimum operating elevation requirement at Lake Fordyce, a development of the Drum-Spaulding Hydroelectric Project No. 2310, in order to implement a seepage mitigation project at Fordyce Dam. The normal maximum reservoir elevation is 6,341 feet (PG&E datum). The licensee proposes to lower the reservoir to its minimum required elevation of 6245.4 feet and install a membrane liner on the upstream face of the dam and anchored to bedrock. A cofferdam and flow bypass would be installed to allow dewatering of the work area on the upstream side of Lake Fordyce Dam and provide a “dry” workspace while maintaining the required minimum 5 cubic feet per second flow downstream of the dam. A variance from the minimum operating elevation of Lake Fordyce may be needed periodically depending on inflow to provide buffer to ensure the cofferdam would not be overtopped.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: February 3, 2021.
Kimberly D. Bose,
Secretary.

[FR Doc. 2021-02620 Filed 2-8-21; 8:45 am]

BILLING CODE 6717-01-P